DEPARTMENT OF ENERGY

Federal Energy Regulatory Commission

Combined Notice of Filings #2

Take notice that the Commission received the following electric rate filings:

Docket Numbers: ER12-1436-007; ER14-152-002; ER13-1793-004; ER12-1260-006; ER10-3099-009; ER10-2329-004.

Applicants: Eagle Point Power Generation LLC, Elgin Energy Center, LLC, Hazle Spindle, LLC, RC Cape May Holdings, LLC, Stephentown Spindle, LLC, Vineland Energy LLC.

Description: Supplement to June 23, 2014 Triennial Market-Based Rate Update Filing for the Northeast Region and Notice of Non-Material Change in Status of the Rockland Seller.

Filed Date: 10/14/14.

Accession Number: 20141014-5173.

Comments Due: 5 p.m. ET 11/4/14.

Docket Numbers: ER15-175-000.

Applicants: San Diego Gas & Electric Company.

Description: § 205(d) rate filing per 35.13(a)(2)(iii): 2015 SDGE RS Update to Transmission Owner Tariff to be effective 1/1/2015.

Filed Date: 10/23/14.

Accession Number: 20141023-5141.

Comments Due: 5 p.m. ET 11/13/14.

Docket Numbers: ER15-176-000.

Applicants: Wheeling Power Company.

Description: § 205(d) rate filing per 35.13(a)(2)(iii): Reactive Supply and Voltage Control from Generation Sources Concurrence to be effective 12/31/2014.

Filed Date: 10/23/14.

Accession Number: 20141023-5149.

Comments Due: 5 p.m. ET 11/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2014.
Nathaniel J. Davis, Sr.,
Deputy Secretary.

[FR Doc. 2014-25831 Filed 10-29-14; 8:45 am]

BILLING CODE 6717-01-P